DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arkansas: Benton (FEMA Docket No.: B-2182). | City of Lowell (21-06-1057P). | The Honorable Chris Moore, Mayor, City of Lowell, 216 North Lincoln Street, Lowell, AR 72745. | City Hall, 216 North Lincoln Street, Lowell, AR 72745. | Feb. 14, 2022 | 050342
Colorado:
Boulder (FEMA Docket No.: B-2182). | City of Boulder (21-08-0996X). | The Honorable Sam Weaver, Mayor, City of Boulder, 1777 Broadway Street, Boulder, CO 80302. | Municipal Building Plaza, 1777 Broadway Street, Boulder, CO 80302. | Feb. 18, 2022 | 080024
Larimer (FEMA Docket No.: B-2182). | City of Fort Collins (21-08-0277P). | The Honorable Jeni Arndt, Mayor, City of Fort Collins, P.O. Box 580, Fort Collins, CO 80522. | Stormwater Utilities Department, 700 Wood Street, Fort Collins, CO 80521. | Feb. 15, 2022 | 080102
Larimer (FEMA Docket No.: B-2182). | Unincorporated areas of Larimer County (21-08-0277P). | The Honorable John Kefalas, Chairman, Larimer County Board of Commissioners, 200 West Oak Street, Suite 2200, Fort Collins, CO 80521. | Larimer County Engineering Department, 200 West Oak Street, Suite 3000, Fort Collins, CO 80521. | Feb. 15, 2022 | 080101
Florida:
Monroe (FEMA Docket No.: B-2178). | Unincorporated areas of Monroe County (21-04-4719P). | The Honorable Michelle Coldiron, Commissioner, Monroe County Board of Commissioners, 25 Ships Way, Big Pine Key, FL 33043. | Monroe County Building Department, 2798 Overseas Highway, Suite 300, Marathon, FL 33050. | Feb. 3, 2022 | 125129
Polk (FEMA Docket No.: B-2178). | Unincorporated areas of Polk County (21-04-1458P). | The Honorable Rick Wilson, Chairman, Polk County Board of Commissioners, P.O. Box 9005, Drawer BC01, Bartow, FL 33831. | Polk County Land Development Division 330 West Church Street, Bartow, FL 33830. | Feb. 10, 2022 | 120261
Polk (FEMA Docket No.: B-2175). | Unincorporated areas of Polk County (21-04-1668P). | The Honorable Rick Wilson, Chairman, Polk County Board of Commissioners, P.O. Box 9005, Drawer BC01, Bartow, FL 33831. | Polk County Land Development Division, 330 West Church Street, Bartow, FL 33830. | Feb. 3, 2022 | 120261
Sarasota (FEMA Docket No.: B-2178). | City of Sarasota (21-04-4173P). | The Honorable Hagen Brody, Mayor, City of Sarasota, 1565 1st Street, Room 101, Sarasota, FL 34236. | Development Services Department, 1565 1st Street, Sarasota, FL 34236. | Feb. 7, 2022 | 125120
Georgia: Barrow (FEMA Docket No.: B-2182). | Unincorporated areas of Barrow County (21-04-4537P). | The Honorable Pat Graham, Chair, Barrow County Board of Commissioners, 30 North Broad Street, Winder, GA 30680. | Barrow County Planning and Community Development Department, 30 North Broad Street, Winder, GA 30680. | Feb. 17, 2022 | 130497
Kentucky: Hardin (FEMA Docket No.: B-2182). | City of Elizabethtown (21-04-1010P) | The Honorable Jeffrey H. Gregory, Mayor, City of Elizabethtown, 200 West Dixie Avenue, Elizabethtown, KY 42701. | Stormwater Department, 200 West Dixie Avenue, Elizabethtown, KY 42701. | Feb. 18, 2022 | 210095
New Mexico:
Bernalillo (FEMA Docket No.: B-2175). | Unincorporated areas of Bernalillo County (21-06-1463P). | The Honorable Charlene E. Pyskoty, Chair, Bernalillo County Board of Commissioners, 415 Silver Avenue Southwest, 8th Floor, Albuquerque, NM 87102. | Bernalillo County Public Works Division, 415 Silver Avenue Southwest, 5th Floor, Albuquerque, NM 87102. | Feb. 2, 2022 | 350001
Valencia (FEMA Docket No.: B-2175). | Pueblo of Isleta (21-06-0607P). | The Honorable Vernon Abeita, Governor, Pueblo of Isleta, P.O. Box 1290, Isleta, NM 87022. | Isleta Pueblo, Tribal Road 40, Building 117A, Isleta, NM 87022. | Feb. 4, 2022 | 350057
Valencia (FEMA Docket No.: B-2175). | Unincorporated areas of Valencia County (21-06-0607P). | Mr. Danny Monette, Valencia County Manager, P.O. Box 1119, Los Lunas, NM 87031. | Valencia County Planning and Zoning Department, 444 Luna Avenue, Los Lunas, NM 87031. | Feb. 4, 2022 | 350086
Valencia (FEMA Docket No.: B-2175). | Village of Los Lunas (21-06-0607P). | The Honorable Charles Griego, Mayor, Village of Los Lunas, P.O. Box 1209, Los Lunas, NM 87031. | Community Development Department, 600 Main Street Northwest, Los Lunas, NM 87031. | Feb. 4, 2022 | 350144
North Carolina:
Johnston (FEMA Docket No.: B-2214). | Unincorporated areas of Johnston County (20-04-5908P). | The Honorable Chad Stewart, Chairman, Johnston County Board of Commissioners, P.O. Box 1049, Smithfield, NC 27577. | Johnston County Planning Department, 309 East Market Street, Clayton, NC 27520. | Feb. 17, 2022 | 370138
Orange (FEMA Docket No.: B-2214). | Unincorporated areas of Orange County (21-04-0006P). | The Honorable Renee Price, Chair, Orange County Board of Commissioners, P.O. Box 1303, Hillsborough, NC 27278. | Orange County Planning, Department, 131 West Margaret Lane, Hillsborough, NC 27278. | Feb 10, 2022 | 370342
Pender (FEMA Docket No.: B-2214). | Town of Burgaw (20-04-3993P) | The Honorable Kenneth Cowan, Mayor, Town of Burgaw, 109 North Walker Street, Burgaw, NC 28425. | Town Hall, 109 North Walker Street, Burgaw, NC 28425. | Feb. 11, 2022 | 370483
Union (FEMA Docket No.: B-2214). | Unincorporated areas of Union County (21-04-0276P). | The Honorable Richard Helms, Chairman, Union County Board of Commissioners, 500 North Main Street, Suite 918, Monroe, NC 28112. | Union County Planning Department, 500 North Main Street, Suite 70, Monroe, NC 28112. | Feb 18, 2022 | 370234
Pennsylvania:
Allegheny (FEMA Docket No.: B-2182). | Township of Harmar (21-03-0173P) | The Honorable Robert J. Exler, Chairman, Township of Harmar Board of Supervisors, 701 Freeport Road, Cheswick, PA 15024. | Harmar Zoning Department, 701 Freeport Road, Cheswick, PA 15024. | Feb. 7, 2022 | 421068
Allegheny (FEMA Docket No.: B-2182). | Township of Indiana (21-03-0173P) | Mr. Daniel L. Anderson, Township of Indiana Manager, 3710 Saxonburg Boulevard, Pittsburgh, PA 15238. | Indiana Code Enforcement Department, 3710 Saxonburg Boulevard, Pittsburgh, PA 15238. | Feb. 7, 2022 | 421070
South Carolina:
Berkeley (FEMA Docket No.: B-2178). | Unincorporated areas of Berkeley County (21-04-5806P). | Mr. John Cribb, Berkeley County Supervisor, 1003 Highway 52, Moncks Corner, SC 29461. | Berkeley County Administration Building, 1003 Highway 52, Moncks Corner, SC 29461. | Feb. 3, 2022 | 450029
Charleston (FEMA Docket No.: B-2182). | Town of McClellanville (21-04-3970P). | The Honorable Rutledge B. Leland, III, Mayor, Town of McClellanville, 405 Pinckney Street, McClellanville, SC 29458. | Zoning Department, 405 Pinckney Street, McClellanville, SC 29458. | Feb. 17, 2022 | 450039
Charleston (FEMA Docket No.: B-2182). | Unincorporated areas of Charleston County (21-04-3970P). | The Honorable Teddie E. Pryor, Sr., Chairman, Charleston County Council, 4045 Bridge View Drive, North Charleston, SC 29405. | Charleston County Building Department, 4045 Bridge View Drive, North Charleston, SC 29405. | Feb. 17, 2022 | 455413
Texas:
Bexar (FEMA Docket No.: B-2203). | City of San Antonio (21-06-1633P). | The Honorable Ron Nirenberg, Mayor, City of San Antonio, P.O. Box 839966, San Antonio, TX 78283. | Stormwater Engineering Division, 114 West Commerce Street, 6th Floor, San Antonio, TX 78205. | Feb. 14, 2022 | 480045
Bexar (FEMA Docket No.: B-2203). | Unincorporated areas of Bexar County (21-06-1633P). | The Honorable Nelson W. Wolff, Bexar County Judge, 101 West Nueva Street, 10th Floor, San Antonio, TX 78205. | Bexar County Public Works Department, 1948 Probandt Street, San Antonio, TX 78214. | Feb. 14, 2022 | 480035
Tarrant (FEMA Docket No.: B-2182). | City of Mansfield (21-06-2343P). | The Honorable Michael Evans, Mayor, City of Mansfield, 1200 East Broad Street, Mansfield, TX 76063. | Department of Public Works, 1200 East Broad Street, Mansfield, TX 76063. | Feb. 17, 2022 | 480606
Williamson (FEMA Docket No.: B-2182). | Unincorporated areas of Williamson County (21-06-0778P). | The Honorable Bill Gravell, Jr., Williamson County Judge, 710 South Main Street, Suite 101, Georgetown, TX 78626. | Williamson County Engineering Department, 3151 Southeast Inner Loop, Georgetown, TX 78626. | Feb. 17, 2022 | 481079
Utah: Salt Lake (FEMA Docket No.: B-2182). | City of Riverton (21-08-0137P). | The Honorable Trent Staggs, Mayor, City of Riverton, 12830 South Redwood Road, Riverton, UT 84065. | Public Works Department, 12526 South 4150 West, Riverton, UT 84065. | Feb. 7, 2022 | 490104
West Virginia:
Cabell (FEMA Docket No.: B-2182). | City of Milton (21-03-0959P). | The Honorable Tom Canterbury, Mayor, City of Milton, 1139 Smith Street, Milton, WV 25541. | City Hall, 1595 U.S. Route 60 East, Milton, WV 25541. | Feb. 14, 2022 | 540019
Cabell (FEMA Docket No.: B-2182). | Unincorporated areas of Cabell County (21-03-0959P). | The Honorable Jim Morgan, President, Cabell County Commission, 750 5th Avenue, Suite 300, Huntington, WV 25701. | Cabell County Office of Grants, Planning and Permits, 750 5th Avenue, Suite 314, Huntington, WV 25701. | Feb. 14, 2022 | 540016

[FR Doc. 2022-04901 Filed 3-7-22; 8:45 am]

BILLING CODE 9110-12-P